DEPARTMENT OF THE INTERIOR

Bureau of Land Management

[LLCAD01000 L12100000.MD0000 17XL1109AF]

Meeting of the California Desert District Advisory Council

AGENCY: Bureau of Land Management, Department of the Interior.

ACTION: Notice of public meeting.

SUMMARY: In accordance with the Federal Land Policy and Management Act of 1976 (FLPMA), and the Federal Advisory Committee Act of 1972 (FACA), the U.S. Department of the Interior, Bureau of Land Management (BLM) California Desert District Advisory Council (DAC) will meet as indicated below.

DATES: The next meeting of the BLM's California DAC will be held October 14-15, 2016. The council will participate in a FLPMA 40th Anniversary celebration in lieu of a field tour of BLM-administered public lands on Friday, October 14, 2016. The celebration will be held at the Santa Rosa and San Jacinto Mountains National Monument Visitor Center in Palm Desert, CA. Specific details regarding the celebration will be posted on the DAC Web page at http://www.blm.gov/ca/st/en/info/rac/dac.html when finalized. On Saturday, October 15, 2016, the DAC will meet in formal session from 8:00 a.m. to 5:00 p.m. at the University of California, Riverside Extension Center, Conference Rooms D-E, located at 1200 University Avenue, Riverside, CA. Members of the public are welcome. The final agenda for the Saturday public meeting will be posted on the DAC Web page at http://www.blm.gov/ca/st/en/info/rac/dac.html when finalized.

FOR FURTHER INFORMATION CONTACT: Stephen Razo, BLM California Desert District External Affairs, 1-951-697-5217. Persons who use a telecommunications device for the deaf (TDD) may call the Federal Information Relay Service (FIRS) at 1-800-877-8339 to contact the above individual during normal business hours. The FIRS is available 24 hours a day, 7 days a week, to leave a message or question with the above individuals. You will receive a reply during normal hours.

SUPPLEMENTARY INFORMATION: All DAC meetings are open to the public. The 15-member council advises the Secretary of the Interior, through the BLM, on a variety of planning and management issues associated with public land management on BLM-administered lands in the California desert. The agenda will include time for public comment at the beginning and end of the meeting, as well as during various presentations.

While the Saturday meeting is tentatively scheduled from 8:00 a.m. to 5:00 p.m., the meeting could conclude prior to 5:00 p.m. should the council conclude its presentations and discussions. Therefore, members of the public interested in a particular agenda item or discussion should schedule their arrival accordingly. The agenda for the Saturday meeting will include updates by council members, the BLM California Desert District Manager, five Field Managers, and council subgroups. Written comments may be filed in advance of the meeting for the California Desert District Advisory Council, c/o Bureau of Land Management, External Affairs, 22835 Calle San Juan de Los Lagos, Moreno Valley, CA 92553.

Written comments will also be accepted at the time of the meeting and, if copies are provided to the recorder, will be incorporated into the minutes.

Dated: September 21, 2016.
Gabriel R. Garcia,
California Desert District Manager, Acting.

[FR Doc. 2016-23344 Filed 9-27-16; 8:45 am]

BILLING CODE 4310-40-P